NUCLEAR REGULATORY COMMISSION

[NRC-2018-0036]

Information Collection: NRC Form 244, “Registration Certificate—Use of Depleted Uranium Under General License”

AGENCY: Nuclear Regulatory Commission.

ACTION: Notice of submission to the Office of Management and Budget; request for comment.

SUMMARY: The U.S. Nuclear Regulatory Commission (NRC) has recently submitted a request for renewal of an existing collection of information to the Office of Management and Budget (OMB) for review. The information collection is entitled, “NRC Form 244, “Registration Certificate—Use of Depleted Uranium Under General License.”

DATES: Submit comments by March 4, 2019.

ADDRESSES: Submit comments directly to the OMB reviewer at: Office of Information and Regulatory Affairs (3150-0031), Attn: Desk Officer for the Nuclear Regulatory Commission, 725 17th Street NW, Washington, DC 20503; email: oira_submission@omb.eop.gov.

FOR FURTHER INFORMATION CONTACT: David Cullison, NRC Clearance Officer, U.S. Nuclear Regulatory Commission, Washington, DC 20555-0001; telephone: 301-415-2084; email: INFOCOLLECTS.Resource@nrc.gov.

SUPPLEMENTARY INFORMATION:

I. Obtaining Information and Submitting Comments

A. Obtaining Information

Please refer to Docket ID NRC-2018-0036 when contacting the NRC about the availability of information for this action. You may obtain publicly-available information related to this action by any of the following methods:

• Federal Rulemaking Website: Go to http://www.regulations.gov and search for Docket ID NRC-2018-0036. A copy of the collection of information and related instructions may be obtained without charge by accessing Docket ID NRC-2018-0036 on this website.

• NRC's Agencywide Documents Access and Management System (ADAMS): You may obtain publicly-available documents online in the ADAMS Public Documents collection at http://www.nrc.gov/reading-rm/adams.html. To begin the search, select “Begin Web-based ADAMS Search.” For problems with ADAMS, please contact the NRC's Public Document Room (PDR) reference staff at 1-800-397-4209, 301-415-4737, or by email to pdr.resource@nrc.gov. A copy of the collection of information and related instructions may be obtained without charge by accessing ADAMS Accession No. ML18135A215. The supporting statement is available in ADAMS under Accession No. ML18309A282.

• NRC's PDR: You may examine and purchase copies of public documents at the NRC's PDR, Room O1-F21, One White Flint North, 11555 Rockville Pike, Rockville, Maryland 20852.

• NRC's Clearance Officer: A copy of the collection of information and related instructions may be obtained without charge by contacting the NRC's Clearance Officer, David Cullison, Office of the Chief Information Officer, U.S. Nuclear Regulatory Commission, Washington, DC 20555-0001; telephone: 301-415-2084; email: INFOCOLLECTS.Resource@NRC.GOV.

B. Submitting Comments

The NRC cautions you not to include identifying or contact information in comment submissions that you do not want to be publicly disclosed in your comment submission. All comment submissions are posted at http://www.regulations.gov and entered into ADAMS. Comment submissions are not routinely edited to remove identifying or contact information.

If you are requesting or aggregating comments from other persons for submission to the OMB, then you should inform those persons not to include identifying or contact information that they do not want to be publicly disclosed in their comment submission. Your request should state that comment submissions are not routinely edited to remove such information before making the comment submissions available to the public or entering the comment into ADAMS.

II. Background

Under the provisions of the Paperwork Reduction Act of 1995 (44 U.S.C. Chapter 35), the NRC recently submitted a request for renewal of an existing collection of information to OMB for review entitled, “NRC Form 244, “Registration Certificate—Use of Depleted Uranium Under General License.” The NRC hereby informs potential respondents that an agency may not conduct or sponsor, and that a person is not required to respond to, a collection of information unless it displays a currently valid OMB control number.

The NRC published a Federal Register notice with a 60-day comment period on this information collection on August 24, 2018, 83 FR 42946.

1. The title of the information collection: NRC Form 244, “Registration Certificate—Use of Depleted Uranium Under General License.”

2. OMB approval number: 3150-0031.

3. Type of submission: Revision.

4. The form number if applicable: NRC Form 244.

5. How often the collection is required or requested: Within 30 days after the first receipt or acquisition of depleted uranium. Any changes in information furnished by the registrant in the NRC Form 244 shall be reported in writing to the Director, Office of Nuclear Material Safety and Safeguards, with a copy to the Regional Administrator of the appropriate U.S. Nuclear Regulatory Commission Regional Office listed in appendix D of title 10 of the Code of Federal Regulations (10 CFR) part 20; this report shall be submitted within 30 days after the effective date of such change.

6. Who will be required or asked to respond: Persons who receive, acquire, possess, or use depleted uranium pursuant to the general license established in 10 CFR 40.25(a).

7. The estimated number of annual responses: 19.

8. The estimated number of annual respondents: 11.5.

9. An estimate of the total number of hours needed annually to comply with the information collection requirement or request: 11 hours.

10. Abstract: Part 40 of 10 CFR, establishes requirements for the receipt, possession, use and transfer of radioactive source and byproduct materials. Section 40.25 established a general license authorizing the use of depleted uranium contained in industrial products or devices for the purpose of providing a concentrated mass in a small volume of the product or device. The NRC Form 244 is used to report the receipt and transfer of depleted uranium, as required by section 40.25. The registration information required by the NRC Form 244 enables the NRC to make a determination on whether the possession, use, or transfer of depleted uranium source and byproduct material is in conformance with the NRC's regulations for the protection of public health and safety.

Dated at Rockville, Maryland, this 3rd day of January 2018.
For the Nuclear Regulatory Commission.
David C. Cullison,
NRC Clearance Officer, Office of the Chief Information Officer.

[FR Doc. 2019-00385 Filed 1-30-19; 8:45 am]

BILLING CODE 7590-01-P